DEPARTMENT OF COMMERCE

National Oceanic and Atmospheric Administration

Coral Reef Conservation Program Fiscal Year 2003 Funding Guidance—Correction

AGENCY: National Oceanic and Atmospheric Administration (NOAA), National Marine Fisheries Service (NMFS), National Ocean Service (NOS), Commerce.

ACTION: Coral Reef Conservation Program fiscal year 2003 funding guidance—correction.

SUMMARY: In the notice of availability of Federal assistance for coral reef conservation activities in the Federal Register of January 17, 2003, Docket No. 021226332-2332-01, make the following correction:

On pages 2518 and 2519, IV. CORAL REEF ECOSYSTEM RESEARCH A. Program Description, the first paragraph should read as follows:

In FY 2003, the Program is providing funding to NOAA's Undersea Research Program (NURP) to cooperatively administer a NURP coral reef grant program for Florida; and in FY 2004, the Program is providing fund to NURP to cooperatively administer NURP coral reef grant programs for the Caribbean, Florida, the Southeastern U.S., Gulf of Mexico, Hawaii, and the Western Pacific. In FY 2003, the Southeastern U.S. and Gulf of Mexico Center will announce a joint program in partnership with the U.S. Environmental Protection Agency and the Sanctuary Friends of the Florida Keys, which will support research in the Florida Keys National Marine Sanctuary. In FY 2004, the Hawaii Undersea Research Laboratory will administer a program to address research needs for Hawaii and the Western Pacific; the Caribbean Marine Research Center will address research needs in the U.S. Caribbean; and the Southeastern U.S. and the Mexico Center will address research needs for Florida, the Southeastern U.S. and the Gulf of Mexico. Requests for proposals will be available at http://www.nurp.noaa.gov/noaacoral.html or by contacting the appropriate regional contact persons identified in the contact information section below. The grant eligibility and matching requirements will be consistent with the NOAA Coral Reef Conservation Grant Program Guidelines.

FOR FURTHER INFORMATION CONTACT: Bill Millhouser, Coastal Programs Division, Office of Ocean and Coastal Resource Management, NOS/NOAA, 1305 East-West Highway, N/ORM3, Silver Spring, Maryland 20910, (301) 713-3155, Extension 189.

Federal Domestic Assistance Catalog 11.419, Coastal Zone Management Program Administration.
Dated: August 12, 2004.
Eldon Hout,
Director, Office of Ocean and Coastal Resource Management.

[FR Doc. 04-19327 Filed 8-23-04; 8:45 am]

BILLING CODE 3510-08-M